DEPARTMENT OF DEFENSE

Office of the Secretary

Department of Defense Medicare-Eligible Retiree Health Care Board of Actuaries; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Department of Defense Medicare-Eligible Retiree Health Care Board of Actuaries (the Board) will take place.

DATES: Open to the public Friday, July 24, 2020, from 10:00 a.m. to 1:00 p.m.

ADDRESSES: This meeting will be held virtually. For information regarding how to access the meeting, please contact Kathleen Ludwig, (703) 653-4758 or Kathleen.A.Ludwig.civ@mail.mil after July 10, 2020.

FOR FURTHER INFORMATION CONTACT: Inger Pettygrove, (703) 225-8803, inger.m.pettygrove.civ@mail.mil (Email). Mailing address is Defense Human Resources Activity, DoD Office of the Actuary, 4800 Mark Center Drive, STE 03E25, Alexandria, VA 22350-8000. website: https://actuary.defense.gov/. The most up-to-date changes to the meeting agenda can be found on the website.

SUPPLEMENTARY INFORMATION: This meeting is being held under the provisions of the Federal Advisory Committee Act of 1972 (5 U.S.C., Appendix, as amended), the Government in the Sunshine Act of 1976 (5 U.S.C. 552b, as amended), and 41 CFR 102-3.140 and 102-3.150.

Purpose of the Meeting: The purpose of the meeting is to execute the provisions of 10 U.S.C. chapter 56 (10 U.S.C. 1114 et. seq). The Board shall review DoD actuarial methods and assumptions to be used in the valuation of benefits under DoD retiree health care programs for Medicare-eligible beneficiaries.

Agenda

1. Meeting Objective

a. Approve actuarial assumptions and methods needed for calculating:

(i) September 30, 2019 unfunded liability (UFL)

(ii) FY 2022 per capita full-time and part-time normal cost amounts

(iii) October 1, 2020, Treasury UFL amortization payment

b. Approve per capita full-time and part-time normal cost amounts for the October 1, 2020 (FY 2021) normal cost payments

2. Trust Fund Update—Investment Experience

3. Medicare-Eligible Retiree Health Care Fund Update

4. September 30, 2018, Actuarial Valuation Results

5. September 30, 2019, Actuarial Valuation Proposals

6. Decisions

(i) Actuarial assumptions and methods needed for calculating items specified in agenda item 1.a.

(ii) Per capita full-time and part-time normal cost amounts needed for calculating item specified in agenda item 1.b.

Meeting Accessibility: Pursuant to 5 U.S.C. 552b and 41 CFR 102-3.140 through 102-3.165 and the availability of space, this meeting is open to the public.

Written Statements: Persons desiring to attend the DoD Medicare-Eligible Retiree Health Care Board of Actuaries meeting or make an oral presentation or submit a written statement for consideration at the meeting, must notify Kathleen Ludwig at (703) 653-4758, or Kathleen.A.Ludwig.civ@mail.mil, by July 10, 2020.

Dated: July 2, 2020.
Aaron T. Siegel,
Alternate OSD Federal Register Liaison Officer, Department of Defense.

[FR Doc. 2020-14727 Filed 7-7-20; 8:45 am]

BILLING CODE 5001-06-P